DEPARTMENT OF COMMERCE

DEPARTMENT OF TRANSPORTATION

44 CFR Part 403

RIN 2105-AC70

Repeal of Traffic Restrictions to North Korea

AGENCY: Department of Commerce and Department of Transportation.

ACTION: Final rule.

SUMMARY: The Departments of Transportation and Commerce maintain joint restrictions on shipping to North Korea, prohibiting any ships documented under the laws of the United States or any aircraft registered under the laws of the United States from engaging in transportation to and from North Korea. In view of the President's recent decision to ease certain sanctions against North Korea, the two departments are repealing the restrictions. This action requires a change to the Code of Federal Regulations.

DATES: This final rule is effective June 19, 2000.

FOR FURTHER INFORMATION CONTACT: Mr. Christopher T. Tourtellot, Office of the Assistant General Counsel for International Law, U.S. Department of Transportation, 400 Seventh Street SW., Washington, DC 20590. Telephone: (202) 366-9183. Ms. Rochelle Woodard, Department of Commerce, Office of the Chief Counsel for Export Administration, Room 3839, 14th Street & Constitution Avenue NW., Washington, DC 20230. Telephone: (202) 482-5304.

SUPPLEMENTARY INFORMATION: The regulations in 44 CFR Part 403 (Transportation Order T-2), which are the joint responsibility of the Departments of Transportation and Commerce, currently impose a shipping restriction that prohibits any ships documented under the laws of the United States or any aircraft under the laws of the United States from engaging in transportation to and from North Korea.

On September 17, 1999, the President announced his intention to ease certain sanctions against North Korea in order to pursue improved relations. There is also a need to facilitate transportation to and from North Korea in support of the Agreed Framework of October 1994.

To accomplish this goal, the Departments of Transportation and Commerce are repealing Order T-2, 44 CFR Part 403, the effect of which is to permit any ships documented under the laws of the United States and any aircraft registered under laws of the United States to engage in transportation to and from North Korea, subject to applicable regulatory restrictions such as the transportation and export control regulations.

This is being released as a final rule. Prior notice and opportunity for public comment are not required to be provided for this rule pursuant to the military and foreign affairs exemption contained in 5 U.S.C. 553(a)(1). Therefore, the analytical requirements of the Regulatory Flexibility Act, 5 U.S.C. 601 et seq., are inapplicable. Because of the need to facilitate transportation to and from North Korea, especially the delivery of humanitarian aid, and because of the need to support the Agreed Framework to pursue improved relations with North Korea in furtherance of United States foreign policy, we are making the rule effective on less than 30-day's notice.

International Trade Impact Statement

This final regulation applies to all United States air carriers and shipping lines, as well as all privately owned aircraft and ships that are documented or registered under the laws of the United States. The rule should improve United States companies' ability to compete in international markets and to participate in trade and travel in the North Korea market. The overall level of travel to and from the United States is not expected to be significantly affected.

Regulatory Impact

Executive Order 12866 and DOT Regulatory Policies and Procedures

This rulemaking affects other federal agencies and involves important matters of public policy, and is therefore significant under DOT Policies and Procedures. It is also a significantly regulatory action for the purposes of Executive Order 12866.

Economic Analysis

The repeal of the regulation will have only the smallest economic impact on affected parties. Given this de minimis effect, the Department finds that further economic analysis is unnecessary.

Paperwork Reduction Act

The repeal of this rule will not alter any recordkeeping or reporting requirements.

Other Executive Orders

The repeal of this rule will not implicate any interests affected by the provisions of Executive Order 12630, Government Actions and Interference with Constitutionally Protected Property Rights; Executive Order 12988, Civil Justice Reform; or Executive Order 13045, Protection of Children from Environmental Health Risks and Safety Risks.

Federalism Implications

The repeal of this regulation has no direct impact on the individual states, on the balance of power in their respective governments, or on the burden of responsibilities assigned them by the national government. In accordance with Executive Order 13132 consultation with state and local governments is, therefore, not required.

Unfunded Mandates Reform Act of 1995

The repeal of this rule does not impose unfunded mandates under the Unfunded Mandates Reform Act of 1995. It does not result in costs of $100 million or more to either state, local, or tribal governments, in the aggregate, or on the private sector.

List of Subjects in 44 CFR Part 403

Air carriers, Korea, Democratic Peoples Republic of, Maritime carriers, Reporting and recordkeeping requirements.

Accordingly, under the authority of Sec. 704, 64 Stat. 816, as amended; 50 U.S.C. App. 2154; interpret or apply sec.101, 64 Stat. 799, as amended; 50 U.S.C. App. 2071; E.O. 10480, 18 FR 4939, 3 CFR 1953 Supp.; sec. 4(a) Pub. L. 89-670, 80 Stat. 933; 49 U.S.C. 1653; and the authority delegated by 49 CFR 1.56a(c) for the Department of Transportation; and as discussed in the Supplementary Information, amend 44 CFR Chapter IV as follows:

PART 403—[REMOVED]

1. Part 403 is removed.

Dated: May 23, 2000.
Iain S. Baird,
Deputy Assistant Secretary for Export Administration, Department of Commerce.

Dated: June 9, 2000.
A. Bradley Mims,
Deputy Assistant Secretary for Aviation and International Affairs, Department of Transportation.

[FR Doc. 00-15217 Filed 6-16-00; 8:45 am]

BILLING CODE 4910-62-M